DEPARTMENT OF COMMERCE

National Oceanic and Atmospheric Administration

Agency Information Collection Activities; Submission to the Office of Management and Budget (OMB) for Review and Approval; Comment Request; Limits of Application of Take Prohibitions

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 26, 2022, during a 60-day comment period. This notice allows for an additional 30 days for public comments.

Agency: National Oceanic and Atmospheric Administration (NOAA), Commerce.

Title: Limits of Application of the Take Prohibitions.

OMB Control Number: 0648-0399.

Form Number(s): None.

Type of Request: Regular (Extension of an approved information collection).

Number of Respondents: 1,140.

Average Hours per Response: Limit 3—Fish Rescue, 4 hours. Limit 4: CA—FMEP Annual Reporting, 4 hours; CA—FMEP Development/Submission, 1,230 hours; ID—FMEP Development/Inseason Reporting/Submission of Annual Reports, 120 hours; OR—FMEP Development/Submission of Annual Reports, 120 hours; WA—FMEP Development/Submission of Annual Reports, 100 hours. Limit 4, 6 and 14—Puget Sound/Klamath Basins: Annual Reporting, 104 hours; Development of RMP, 624 hours; Submittal of RMP, 150 hours; Litigation Assistance, 416 hours. Limit 5: CA—HGMP Annual Reporting, 8 hours; CA—HGMP Development/Submission, 2,080 hours. Limit 5 and 6: ID—RMP/HGMP Development/Submission of Annual Reports, 18,000 hours; OR—RMP/HGMP Development/Submission of Annual Reports, 7,200 hours; WA—RMP/HGMP Development/Submission of Annual Reports, 7,200 hours. Limit 6—Fisheries—Columbia River Basin, 1,800 hours. Limit 7—State Research Programs: Applications, 1,000 hours; Modifications, 40 hours; Reports, 600 hours. Limit 10: OR—5-year plan submission, 160 hours; OR—Annual Reporting, 40 hours; CA—Annual Reporting, 4 hours. Limit 14—CA—Annual Reporting, 8 hours.

Total Annual Burden Hours: 167,872.

Needs and Uses: Section 4(d) of the Endangered Species Act of 1973 (ESA; 16 U.S.C. 1531 et. seq.) requires the National Marine Fisheries Service (NMFS) to adopt such regulations as it “deems necessary and advisable to provide for the conservation of” threatened species. Those regulations may include any or all of the prohibitions provided in section 9(a)(1) of the ESA, which specifically prohibits “take” of any endangered species (“take” includes actions that harass, harm, pursue, kill, or capture). The first salmonid species listed by NMFS as threatened were protected by virtually blanket application of the section 9 take prohibitions. There are now 23 separate Distinct Population Segments (DPS) of west coast salmonids listed as threatened, covering a large percentage of the land base in California, Oregon, Washington and Idaho. NMFS is obligated to enact necessary and advisable protective regulations. NMFS makes section 9 prohibitions generally applicable to many of those threatened DPS, but also seeks to respond to requests from states and others to both provide more guidance on how to protect threatened salmonids and avoid take, and to limit the application of take prohibitions wherever warranted (see 70 FR 37160, June 28, 2005, 71 FR 834, January 5, 2006, and 73 FR 55451, September 25, 2008). The regulations describe programs or circumstances that contribute to the conservation of or are being conducted in a way that limits impacts on, listed salmonids. Because we have determined that such programs/circumstances adequately protect listed salmonids, the regulations do not apply the “take” prohibitions to them. Some of these limits on the take prohibitions entail voluntary submission of a plan to NMFS and/or annual or occasional reports by entities wishing to take advantage of these limits, or continue within them.

The currently approved application and reporting requirements apply to Pacific marine and anadromous fish species, as requirements regarding other species are being addressed in a separate information collection.

Affected Public: Federal government; State, local, or tribal government; business or other for-profit organizations.

Frequency: Annual.

Respondent's Obligation: Mandatory.

Legal Authority: Section 4(d) of the Endangered Species Act of 1973 (ESA; 16 U.S.C. 1531 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0399.

Sheleen Dumas,
Department PRA Clearance Officer, Office of the Chief Information Officer, Commerce Department.

[FR Doc. 2022-13289 Filed 6-21-22; 8:45 am]

BILLING CODE 3510-22-P